DEPARTMENT OF HEALTH AND HUMAN SERVICES

National Institutes of Health

Center for Scientific Review; Amended Notice of Meeting

Notice is hereby given of a change in the meeting of the AIDS Clinical Studies and Epidemiology Study Section, November 17, 2009, 8 a.m. to November 18, 2009, 5 p.m., The Fairmont Washington, DC, 2401 M Street, NW., Washington, DC 20037 which was published in the Federal Register on October 9, 2009, 74 FR 52245-52246.

The meeting will be one day only November 17, 2009. The meeting time and location remain the same. The meeting is closed to the public.

Dated: October 15, 2009.
Jennifer Spaeth,
Director, Office of Federal Advisory Committee Policy.

[FR Doc. E9-25412 Filed 10-21-09; 8:45 am]

BILLING CODE 4140-01-P